DEPARTMENT OF AGRICULTURE

Animal and Plant Health Inspection Service

9 CFR Part 94

[Docket No. APHIS-2009-0034]

RIN 0579-AD12

Changes in Disease Status of the Brazilian State of Santa Catarina With Regard to Certain Ruminant and Swine Diseases; Technical Amendment

AGENCY: Animal and Plant Health Inspection Service, USDA.

ACTION: Final rule; technical amendment.

SUMMARY: In a final rule that was published in the Federal Register on November 16, 2010, and effective on December 1, 2010, we added the Brazilian State of Santa Catarina to the list of regions we recognize as free of foot-and-mouth disease (FMD), rinderpest, swine vesicular disease (SVD), classical swine fever (CSF), and African swine fever. We also added Santa Catarina to the list of regions that are subject to certain import restrictions on meat and meat products because of their proximity to or trading relationships with rinderpest- or FMD-affected countries. In the final rule, we neglected to add Santa Catarina to the lists of regions that are subject to certain import restrictions on pork and pork products because of their proximity to or trading relationships with SVD- and CSF-affected countries. This document corrects that error.

DATES: Effective Date: March 21, 2011.

FOR FURTHER INFORMATION CONTACT: Dr. Silvia Kreindel, Senior Staff Veterinarian, Regionalization Evaluation Services Staff, National Center for Import and Export, VS, APHIS, 4700 River Road Unit 38, Riverdale, MD 20737; (301) 734-4356 or (301) 734-8419.

SUPPLEMENTARY INFORMATION:

Background

The regulations in 9 CFR part 94 (referred to below as the regulations) govern the importation into the United States of specified animals and animal products in order to prevent the introduction of various animal diseases, including rinderpest, foot-and-mouth disease (FMD), African swine fever (ASF), classical swine fever (CSF), and swine vesicular disease (SVD). These are dangerous and destructive communicable diseases of swine and ruminants.

In a final rule ¹ published in the Federal Register on November 16, 2010 (75 FR 69851-69857, Docket No. APHIS-2009-0034), with an effective date of December 1, 2010, we amended the regulations by adding the Brazilian State of Santa Catarina to the list in § 94.1 of regions that are free of rinderpest and FMD, the list in § 94.11 of regions that are declared to be free of rinderpest and FMD but that are subject to certain restrictions because of their proximity to or trading relationships with rinderpest or FMD-affected regions, the lists in §§ 94.9 and 94.10 of regions that are free of CSF, and the list in § 94.12 of regions that are free of SVD. We also excluded Santa Catarina from the list in § 94.8 of regions where ASF is known to or reasonably believed to exist.

¹ To view the final rule and related documents, go to http://www.regulations.gov/fdmspublic/component/main?main=DocketDetail&d=APHIS-2009-0034.

Section 94.13 of the regulations lists regions of the world that have been determined to be free of SVD, but that are subject to certain restrictions because of their proximity to or trading relationships with SVD-affected regions. Section 94.25 of the regulations lists regions of the world that have been determined to be free of CSF, but that are subject to certain restrictions because of their proximity to or trading relationships with CSF-affected regions.

Because we have not declared the rest of Brazil to be free of SVD or CSF, the importation of pork and pork products into the United States from Santa Catarina are subject to these restrictions. In the final rule, we neglected to add Santa Catarina to the lists in § 94.13 and § 94.25 of regions that are subject to certain import restriction on pork and pork products because of their proximity to or trading relationships with SVD- and CSF-affected countries. Therefore, this document amends § 94.13, introductory text, and § 94.25, paragraph (a), to add Santa Catarina to those lists.

USDA's Food Safety and Inspection Service (FSIS) is responsible for regulating the importation of meat and meat products to ensure that they are safe for human consumption. Individual meat exporting establishments must be certified to FSIS in order to be eligible to export meat and meat products to the United States. FSIS has not certified any such establishments in Santa Catarina, and therefore no pork or pork products have been imported into the United States from Santa Catarina since the final rule became effective.

List of Subjects in 7 CFR Part 94

Animal diseases, Imports, Livestock, Meat and meat products, Milk, Poultry, and poultry products, Reporting and recordkeeping requirements.

Accordingly, we are amending 9 CFR part 94 as follows:

PART 94—RINDERPEST, FOOT-AND-MOUTH DISEASE, EXOTIC NEWCASTLE DISEASE, AFRICAN SWINE FEVER, CLASSICAL SWINE FEVER, SWINE VESICULAR DISEASE, AND BOVINE SPONGIFORM ENCEPHALOPATHY: PROHIBITED AND RESTRICTED IMPORTATIONS

1. The authority citation for part 94 continues to read as follows:

Authority: 7 U.S.C. 450, 7701-7772, 7781-7786, and 8301-8317; 21 U.S.C. 136 and 136a; 31 U.S.C. 9701; 7 CFR 2.22, 2.80, and 371.4.

§ 94.13 [Amended]

2. In § 94.13, introductory text, the first sentence is amended by adding the words “the Brazilian State of Santa Catarina,” after the word “Belgium,”.

§ 94.25 [Amended]

3. In § 94.25, paragraph (a) is amended by adding the words “The Brazilian State of Santa Catarina,” after the word “section:” and by adding a comma after the word “Chile”.

Done in Washington, DC, this 16th day of March 2011.
Kevin Shea,
Acting Administrator, Animal and Plant Health Inspection Service.

[FR Doc. 2011-6538 Filed 3-18-11; 8:45 am]

BILLING CODE 3410-34-P